DELAWARE RIVER BASIN COMMISSION

Notice of Commission Meeting and Public Hearing

Notice is hereby given that the Delaware River Basin Commission will hold an informal conference followed by a public hearing on Wednesday, January 19, 2005. The hearing will be part of the Commission's regular business meeting. Both the conference session and business meeting are open to the public and will be held at the Delaware River Basin Commission's offices, 25 State Police Drive in West Trenton, New Jersey.

The conference among the commissioners and staff will begin at 9:30 a.m. Topics of discussion will include: response to the Athos I oil spill; staff recommendations on a proposal to amend the Water Quality Regulations, Water Code and Comprehensive Plan to classify the Lower Delaware River as Special Protection Waters; progress report on Stage 2 TMDLs for PCBs in the Delaware Estuary; report on the Delaware Estuary Science Conference of January 10-12, 2005; report on the Flow Management Technical Advisory Committee Work Group Meetings of November 9-10 and December 3, 2004 and January 6 and 18, 2005; and a proposed resolution to adopt the Commission's annual budget for the fiscal year ending June 30, 2005 and to apportion among the signatory parties the amounts required for support of the Commission's annual and operating budgets.

The subjects of the public hearing to be held during the 1 p.m. business meeting include the dockets listed below:

1. Knoll, Inc. D-74-162-2. An application to modify a wastewater treatment plant discharge for the Knoll Furniture Manufacturing Facility located off Water Street, approximately 1,000 feet northeast of its intersection with Peevy Road in Upper Hanover Township, Montgomery County, Pennsylvania. No new treatment facilities are proposed. A junction box at the sewage treatment plant will be repaired, and the facility will be rerated to include an additional 3,000 gallons of wastewater flow. Although the current docket provides for a flow of 0.07 million gallons per day (mgd), the wastewater treatment plant provides advanced treatment of a total flow of 0.073 mgd from sanitary, process and cooling water sources prior to discharge to Perkiomen Creek in the Schuylkill River Watershed.

2. Alcoa Extrusions, Inc. D-82-5-3. An application for the renewal of a ground water withdrawal project to reduce withdrawal from 21.6 million gallons per 30 days (mg/30 days) to 11.0 mg/30 days to supply the applicant's manufacturing facility from existing Wells Nos. 1 and 2 in the West Branch Schuylkill River Watershed. The project is located in Cressona Borough, Schuylkill County, Pennsylvania.

3. Occidental Chemical Corporation D-83-9-2. An application to amend the current docket, which provides for a discharge from the 0.3 million gallons per day (mgd) (design) industrial waste treatment plant (IWTP) to contain and treat mercury contaminated groundwater at the applicant's Delaware City chemical manufacturing plant located off State Route 9 in New Castle County, Delaware. Barrier walls have been constructed around the perimeter of the Process Area and Waste Lake 1. Contaminated groundwater from within these containments will be pumped at a maximum rate of 30 gallons per minute (43,200 gallons per day) for treatment at an activated carbon treatment system before being discharged to the existing IWTP for mercury removal. The IWTP discharge is to the Delaware River in Water Quality Zone 5.

4. County of Chester D-83-15 CP-2. An application to upgrade the applicant's existing 0.105 mgd sewage treatment plant (STP) from a secondary treatment facility to tertiary treatment with no increase in treatment capacity. The STP will continue to serve only the Pocopson Home and Prison. The STP is located approximately one-half mile north of the intersection of Route 52 and Wawaset Road in Pocopson Township, Chester County, Pennsylvania in the Pocopson Creek Watershed. The existing effluent spray field irrigation system will also be upgraded and no effluent discharge to surface water is proposed. (This docket was NAR'd as D-2004-7 CP.)

5. Waste Management Disposal Services of Pennsylvania, Inc. D-88-54-2. An application to modify a landfill leachate treatment plant discharge to the tidal Delaware River via a constructed discharge cove in Water Quality Zone 2. The treatment plant serves the Tullytown and GROWS Landfills and is located off Bordentown Road in Falls Township, Bucks County, Pennsylvania. The existing 0.1 million gallons per day leachate treatment plant utilizes the Best Available Treatment Technology but cannot consistently meet effluent total dissolved solids and color limits. The docket holder has requested modification of its docket to allow an increase in the average discharge concentration of Total Dissolved Solids to 10,000 mg/l from the current 6,560 mg/l and an increase in the maximum effluent limit for True Color to 1,500 units from the current 750 units on a platinum-cobalt scale. In support of its requested modifications, the docket holder has completed an environmental study that indicates the changes would result in no significant impact to the Delaware Estuary. No increase in treatment plant capacity is proposed. The docket holder also proposes to construct two effluent storage tanks at the GROWS leachate treatment plant to replace an existing tank and seeks approval to haul non-hazardous leachate to a proposed transfer station that will reroute flow to the Morrisville Borough sewage treatment plant, just upstream on the tidal Delaware River within Water Quality Zone 2.

6. Blue Ridge Real Estate Company D-91-46-2. An application for the renewal of a surface water withdrawal project to continue withdrawal of 12 million gallons per 30 days to supply the applicant's proposed golf course at the Jack Frost Ski Area from an existing intake in the Tobyhanna Creek. The project is located in Kidder Township, Carbon County, Pennsylvania.

7. Borough of Sellersville D-92-84 CP RENEWAL. An application for the renewal of a ground water withdrawal project to continue withdrawal of 20.54 mg/30 days to supply the applicant's distribution system from existing Wells Nos. 1, 4, 5, and 6 in the Tohickon Creek and East Branch Perkiomen Creek Watersheds. The project is located in West Rockhill Township and the Borough of Sellersville, Bucks County, Pennsylvania and is located in the Southeastern Pennsylvania Ground Water Protected Area.

8. The Premcor Refining Group, Inc. D-93-4-3. An application to replace the withdrawal of water from Well No. P-9 in the applicant's water supply system, which has become an unreliable source of supply. The applicant requests withdrawal from replacement Well No. P-9A. No change in the total withdrawal from all wells—currently 180 million gallons per 30 days—is proposed. The project is located in the C&D Canal East, Dragon Run and Red Lion Creek Watersheds in Delaware City, New Castle County, Delaware.

9. AMETEK U.S. Gauge Division D-93-25(G)-2. An application for the renewal of a ground water withdrawal project to continue withdrawal of 3.88 million gallons per 30 days to supply the applicant's industrial facility and groundwater remediation project from existing Wells Nos. RW-1 and MW-6S and new Well No. MW-10S in the East Branch Perkiomen Creek Watershed. The project is located in Sellersville Borough, Bucks County, Pennsylvania within the Southeastern Pennsylvania Ground Water Protected Area.

10. United Water Delaware D-96-50 CP-2. An application for the renewal of a surface water withdrawal project to continue withdrawal of 30 million gallons per day (mgd) to provide supply to the applicant's public water distribution system, originally docketed under D-91-72 CP, and for a proposed revision to the operating plan of the tidal capture structure (TCS) originally docketed under D-96-50 CP. The applicant requests removal of the Q7-10 passby requirement when the natural stream flow is less than 17.2 mgd or chlorides immediately at the outlet of the TCS bypass structure downstream of the TCS are greater than 250 ppm. Surface water is withdrawn from the confluence of the White Clay Creek and Red Clay Creek at the Stanton Intake, and/or from the tidal backflow from the Christina River created by the TCS, via an intake at the TCS. The modification of the TCS operating plan is designed to increase water supply reliability during low flow conditions, attenuate brackish water impacts and maintain essential physical habitat at the tidal/freshwater interface controlled by the TCS. The TCS operating plan revision includes incremental passby flow targets in conjunction with salinity monitoring to protect the applicant's water supply and preserve depth of water downstream of the TCS for aquatic habitat protection. The project is located in New Castle County, Delaware.

11. Plumstead Township D-97-33 CP-2. An application for approval of a ground water withdrawal project to renew the allocation included in Docket D-94-43 P.A. and consolidate all other docket approvals for Plumstead Township, retaining the existing withdrawal from all wells of 15.31 million gallons per 30 days (mg/30 days). Docket D-97-33 CP-2 consolidates allocations approved under D-92-76 P.A., D-94-43 P.A., D-95-18 CP and D-97-33 CP. The project is located in the North Branch Neshaminy Creek, Geddes Run, Cabin Run and Pine Run Watersheds in Plumstead Township, Bucks County, Pennsylvania, within the Southeastern Ground Water Protected Area.

12. Green-Waltz Water Company, Inc., Nestlé Waters North America Inc., D-98-55-2. An application for approval of a ground water withdrawal project to supply up to 11.7 million gallons per 30 days (mg/30 days) of water for bulk water supply to the applicant's bottling plant from replacement Well B-1, screened in the unconsolidated deposits overlying the Martinsburg Formation. Well B-1 will replace Well 1 (also known as W-1). Green-Waltz Water Company, Inc. sold to Nestlé Waters North America Inc. (NWNA) its interests in waters from the spring sources located on the subject property, but remains a co-owner of the site and facilities. NWNA has assumed the role of operator of the facilities, and as such, has responsibility for the operation and maintenance of the withdrawal from Well B-1. The applicant has not requested a change in the existing allocation of 11.7 mg/30 days. The project is located in the Waltz Creek Watershed in Washington Township, Northampton County, Pennsylvania.

13. Pennsylvania American Water Company D-99-30 CP 2. An application for approval of a ground water withdrawal project to supply up to 5.83 million gallons per 30 days (mg/30 days) of water to the applicant's Glen Alsace public water supply distribution system from replacement Well GL-2A in the Brunswick Formation, and to retain the existing withdrawal from all wells at 50 mg/30 days. Proposed replacement Well No. GL-2A will replace former Well No. GL-2 and is planned to be used as a regular source to the Glen Alsace distribution system. The project also includes two existing interconnections from the Reading Area Water Authority (45 mg/30 days) and the Mount Penn Water Authority (6 mg/30 days). The project is located in the Antietam Creek Watershed in Exeter Township, Berks County, Pennsylvania.

14. Lower Perkiomen Valley Regional Sewer Authority D-2001-42 CP-2. An application to expand the Oaks Sewage Treatment Plant (STP) from 9.5 million gallons per day (mgd) to 14.25 mgd. The plant will continue to provide advanced secondary treatment via an anoxic/oxic biological process. The Oaks STP is located at the confluence of Perkiomen Creek and the Schuylkill River in Upper Providence Township, Montgomery County, PA. The project will continue to serve portions of Upper Providence, Perkiomen and Skippack Townships, plus Collegeville and Trappe Boroughs, all in Montgomery County, PA. STP effluent will continue to be discharged to the Schuylkill River through the existing outfall. (This docket was NAR'd as D-2004-20 CP.)

15. Little Washington Wastewater Company D-2001-54-2. An application to expand a 0.12 million gallon per day (mgd) sewage treatment plant (STP) to process 0.155 mgd on a maximum monthly basis, while maintaining tertiary level of treatment. The plant is located just south of Little Washington-Lyndell Road in East Brandywine Township, Chester County, Pennsylvania. Currently, up to 53,100 gallons per day (gpd) of STP effluent is discharged to Culbertson Run in the Brandywine Creek Watershed and up to 66,133 gpd to effluent disposal beds that recharge the ground water table. The additional effluent from the proposed expansion will be routed back to the proposed Hideaway Farm subdivision for application to new disposal beds. The proposed expansion will enable the applicant to serve additional residential development in East Brandywine Township.

16. Pennsylvania-American Water Company D-2003-6 CP-1. An application for approval of a ground water withdrawal project to supply up to 5.616 mg/30 days of water to the applicant's Country Club of the Poconos at Big Ridge distribution system from new Wells Nos. 3 and 5 in the Mahatango Formation, and to increase the existing withdrawal from all wells to 9.316 mg/30 days. The project is located in the Pond Creek Watershed in Middle Smithfield Township, Monroe County, Pennsylvania in the drainage area of the Special Protection Waters. (This docket was NAR'd as D-2003-6 CP.)

17. Air Products and Chemicals, Inc. D-2004-27-1. An application for an existing industrial wastewater treatment plant to process up to 0.135 million gallons per day and to continue to discharge to the Lehigh River through an existing outfall. No modification of the existing plant or increase in flow is proposed. The applicant is a manufacturing facility located in the Borough of Glendon, Northampton County, Pennsylvania, in the area covered by the Lower Delaware River Management Plan.

18. The Glass Group, Inc. D-2004-29-1. An application for approval of a ground water withdrawal project to supply up to 30 million gallons per thirty days (mg/30 days) of water to the applicant's manufacturing facility from Wells Nos. 13, 14, 15 and 16 in the Cohansey Formation. The project is located in the Maurice River Watershed in the City of Millville, Cumberland County, New Jersey.

19. Warren Investments, LLC D-2004-31-1. An application for approval of a ground water withdrawal project to supply up to 6.91 million gallons per 30 days of water for supplemental irrigation of the applicant's proposed Shetland Crossing Golf Club from new Wells WIA, WIB, WIC and WID, all in the Lockatong Formation. In conjunction with the ground water withdrawal, the golf course will utilize supplemental irrigation from stormwater collected in four on-site storage ponds. The project is located in the Wickecheoke Creek Watershed in Franklin Township, Hunterdon County, New Jersey.

20. Bear Creek Management Company, LLC D-2004-35-1. An application for approval of a ground water and surface water withdrawal project to supply up to 11 million gallons per 30 days (mg/30 days) of water to the applicant's ski resort from new Wells Nos. 1, 2, 3, 4, 5 and 6 and up to 36 mg/30 days of water to the applicant's snowmaking operations from 4 ponds and 1 detention basin and to limit the withdrawal from all sources to 36.6 mg/30 days. The project is located in the Swabia Creek Watershed in Longswamp Township, Berks County, Pennsylvania.

21. Borough of Portland D-2003-9 CP. An application to construct a 0.105 million gallon per day (mgd) wastewater treatment plant to provide tertiary treatment of flow from the proposed Portland Industrial Park and from local on-lot septic systems located in Portland Borough, Northampton County, Pennsylvania. The plant will be constructed in the southeast corner of Portland Borough and the project outfall will discharge to the Delaware River. This location is in DRBC Water Quality Zone 1D and in the drainage area of the Lower Delaware Management Plan.

In addition to the public hearing on the dockets listed above, the Commission's 1 p.m. business meeting will include a public hearing and possible action on a resolution to amend Resolution No. 2002-33 relating to the operation of Lake Wallenpaupack during drought watch, drought warning and drought operations; a resolution to amend the Commission's administrative procedure and fee schedule for renewal of project approvals under Section 3.8 and Article 10 of the Delaware River Basin Compact; a resolution to amend the Water Quality Regulations, Water Code and Comprehensive Plan to designate the Lower Delaware River as Special Protection Waters; a resolution authorizing the Executive Director to extend the Commission's contract with Axys Analytical Laboratories, Inc. for analytical services in connection with the control of toxic substances in the Delaware Estuary; a resolution authorizing the executive director to engage a contractor to assist the Commission staff with tasks to be completed under Pennsylvania Act 220; and a resolution to adopt the Commission's annual budget for the fiscal year ending June 30, 2005 and to apportion among the signatory parties the amounts required for support of the Commission's annual and operating budgets.

In addition, the meeting will include: adoption of the Minutes of the October 27, 2004 business meeting; announcements; a report on Basin hydrologic conditions; a report by the executive director; a report by the Commission's General Counsel; and an opportunity for public dialogue. Draft dockets and the resolutions scheduled for public hearing on January 19, 2005 will be posted on the Commission's Web site, http://www.drbc.net, where they can be accessed through the Notice of Commission Meeting and Public Hearing. Additional documents relating to the dockets and other items may be examined at the Commission's offices. Please contact William Muszynski at 609-883-9500 ext. 221 with any docket-related questions.

Individuals in need of an accommodation as provided for in the Americans with Disabilities Act who wish to attend the informational meeting, conference session or hearings should contact the Commission Secretary directly at 609-883-9500 ext. 203 or through the Telecommunications Relay Services (TRS) at 711, to discuss how the Commission may accommodate your needs.

Dated: December 27, 2004.
Pamela M. Bush,
Commission Secretary.

[FR Doc. 04-28689 Filed 12-30-04; 8:45 am]

BILLING CODE 6360-01-P